DEPARTMENT OF HEALTH AND HUMAN SERVICES

National Institutes of Health

National Cancer Institute; Amended Notice of Meeting

Notice is hereby given of a change in the meeting of the National Cancer Advisory Board, February 8, 2024, 05:00 p.m., National Cancer Institute Shady Grove, 9609 Medical Center Drive, Bethesda, MD 20892 (Virtual Meeting) which was published in the Federal Register on November 7, 2023, FR Doc 2023-24578, 88 FR 76836.

This meeting notice is being amended to change the times for the National Cancer Advisory Board (NCAB) Subcommittee Meetings, Open Session, and Closed Session on February 8, 2024. The NCAB Subcommittee Meetings will now be held from 10:00 a.m. to 1:10 p.m. instead of from 11:00 a.m. to 1:05 p.m. The NCAB Open Session will now be held from 1:15 p.m. to 4:15 p.m. instead of from 1:15 p.m. to 3:30 p.m. The NCAB Closed Session will now be held from 4:25 p.m. to 5:30 p.m. instead of from 3:30 p.m. to 5:00 p.m. The NCAB Subcommittee Meetings and NCAB Open Session can be accessed from the NIH Videocast at the following link: https://videocast.nih.gov/. The meeting is partially Closed to the public.

Dated: January 31, 2024.
Melanie J. Pantoja,
Program Analyst, Office of Federal Advisory Committee Policy.

[FR Doc. 2024-02222 Filed 2-2-24; 8:45 am]

BILLING CODE 4140-01-P